DEPARTMENT OF HOMELAND SECURITY

[Docket No. DHS-2006-0074]

Homeland Security Advisory Council; Meeting

AGENCY: Policy Directorate, Department of Homeland Security.

ACTION: Notice of partially closed federal advisory committee meeting.

SUMMARY: The Homeland Security Advisory Council (HSAC) will hold a meeting for purposes of reporting on task force activities examining: (1) The Future of Terrorism; and (2) Improving the Department's Culture. In addition, the HSAC will receive briefings and hold member deliberations with Secretary Michael Chertoff. This meeting will be partially closed.

DATES: Thursday, January 11, 2007.

ADDRESSES: The open portion of the meeting will be held at the Hyatt Regency Washington, at 400 New Jersey Avenue, NW., Washington, DC, 20001, in the Congressional Room, Lobby Floor. The closed portions of the meeting will be held in the Thornton Room of the Hyatt Regency Washington, 11th Floor, and in a yet to be determined government building.

If you desire to submit written comments, they must be submitted by January 4, 2007. Comments must be identified by DHS-2006-0074 and may be submitted by one of the following methods:

• Federal e-Rulemaking Portal: http://www.regulations.gov. Follow the instructions for submitting comments.

• E-mail: HSAC@dhs.gov. Please include docket number in the subject line of the message.

• Fax: (202) 282-9207.

• Mail: Kezia Williams, Homeland Security Advisory Council, Department of Homeland Security, Washington, DC 20528.

Instructions: All submissions received must include the words “Department of Homeland Security” and DHS-2006-0074, the docket number for this action. Comments received will be posted without alteration at http://www.regulations.gov, including any personal information provided.

Docket: For access to the docket to read background documents or comments received by the DHS Homeland Security Advisory Council, go to http://www.regulations.gov.

FOR FURTHER INFORMATION CONTACT: Kezia Williams, Homeland Security Advisory Council, Washington, DC 20528, (202) 447-3135, HSAC@dhs.gov.

SUPPLEMENTARY INFORMATION: At the upcoming meeting, the HSAC will focus on the future of terrorism; threat assessment/intelligence update, and improving the culture within the Department of Homeland Security. The HSAC will also hold deliberations and discussions among HSAC members, including discussions regarding administrative matters.

During the open portion of the meeting, from 11:15 a.m. to 12:30 p.m., the HSAC will consider task force reports on “The Future of Terrorism” and “Improving the Department's Culture.”

The closed portion of the meeting will be held from 9 a.m. to 11:15 a.m., and then again from 12:30 p.m. to 3:30 p.m. It will include discussions on improving the Department's culture, as well as on the future of terrorism, and how the department should strategically adjust and enhance public preparedness. Schedules permitting, the closed session will include a meeting with a congressional leader. During the closed portions of the meeting, various speakers from the Department and outside will discuss the current trends in terrorism as well as how various companies and organizations have created healthy cultures. Therefore, certain trade secrets are likely to be discussed as well as the manner in which the federal government investigates and tracks the patterns of terrorism.

Public Attendance: A limited number of members of the public may register to attend the public session on a first-come, first-served basis per the procedures that follow. Security requires that any member of the public who wishes to attend the public session provide his or her name and date of birth no later than 5 p.m. e.s.t., Thursday, January 4, 2007, to Kezia Williams or an Executive Staff Member of the HSAC via e-mail at HSAC@dhs.gov or via phone at (202) 447-3135. Photo identification will be required for entry into the public session, and everyone in attendance must be present and seated by 11 a.m.

Information on Services for Individuals with Disabilities: For information on facilities or services for individuals with disabilities, or to request special assistance at the meeting, contact Kezia Williams as soon as possible.

Basis for Closure: In accordance with Section 10(d) of the Federal Advisory Committee Act, Public Law 92-463, as amended (5 U.S.C. App.), portions of this HSAC meeting will be closed. At the closed portions of the meeting, the committee will be addressing specific security and infrastructure vulnerabilities, and these discussions are likely to include: trade secrets and commercial or financial information that is privileged or confidential; investigative techniques and procedures; and matters that for which disclosure would likely frustrate significantly the implementation of proposed agency actions.

Accordingly, these portions of the meeting must be closed as consistent with the provisions of 5 U.S.C. 552b(c)(4), (7)(E), and (9)(B).

Stewart Baker,
Assistant Secretary for Policy.

[FR Doc. E6-21914 Filed 12-21-06; 8:45 am]

BILLING CODE 4410-10-P